DEPARTMENT OF THE TREASURY

Office of the Comptroller of the Currency

FEDERAL RESERVE SYSTEM

FEDERAL DEPOSIT INSURANCE CORPORATION

Proposed Agency Information Collection Activities; Comment Request

AGENCY: Office of the Comptroller of the Currency (OCC), Treasury; Board of Governors of the Federal Reserve System (Board); and Federal Deposit Insurance Corporation (FDIC).

ACTION: Joint notice and request for comment.

SUMMARY: In accordance with the requirements of the Paperwork Reduction Act of 1995 (PRA), the OCC, the Board, and the FDIC (the agencies) may not conduct or sponsor, and the respondent is not required to respond to, an information collection unless it displays a currently valid Office of Management and Budget (OMB) control number. The Federal Financial Institutions Examination Council (FFIEC), of which the agencies are members, has approved the agencies' publication for public comment of a proposal to extend for three years, with revision, the Consolidated Reports of Condition and Income (Call Report) (FFIEC 031, FFIEC 041, and FFIEC 051), the Regulatory Capital Reporting for Institutions Subject to the Advanced Capital Adequacy Framework (FFIEC 101), and the Market Risk Regulatory Report for Institutions Subject to the Market Risk Capital Rule (FFIEC 102), which are currently approved collections of information for each agency. The agencies are requesting comment on proposed revisions to these collections related to the agencies' regulatory capital rule proposal that was published on September 18, 2023 (proposed capital rule). The reporting revisions are proposed to be effective as of the September 30, 2025, report date. At the end of the comment period for this notice, the FFIEC and the agencies will review any comments received to determine whether to modify the proposal in response to such comments. As required by the PRA, the agencies will then publish a second Federal Register notice for a 30-day comment period and submit the final Call Report, FFIEC 101 and FFIEC 102 to OMB for review and approval.

DATES: Comments must be submitted on or before March 26, 2024.

ADDRESSES: Interested parties are invited to submit written comments to any or all of the agencies. All comments, which should refer to the “Call Report, FFIEC 101 and FFIEC 102 Revisions,” will be shared among the agencies.

OCC: You may submit comments, which should refer to “Call Report, FFIEC 101 and FFIEC 102 Revisions,” by any of the following methods:

• Email: prainfo@occ.treas.gov.

• Mail: Chief Counsel's Office, Attention: Comment Processing, Office of the Comptroller of the Currency, Attention: 1557-0081, 1557-0239, and 1557-0325, 400 7th Street SW, Suite 3E-218, Washington, DC 20219.

• Hand Delivery/Courier: 400 7th Street SW, Suite 3E-218, Washington, DC 20219.

• Fax: (571) 293-4835.

Instructions: You must include “OCC” as the agency name and “1557-0081, 1557-0239, 1557-0325” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

Following the close of this notice's 60-day comment period, the OCC will publish a second notice with a 30-day comment period. You may review comments and other related materials that pertain to this information collection beginning on the date of publication of the second notice for this collection by the method set forth in the next bullet.

• Viewing Comments Electronically: Go to www.reginfo.gov. Hover over the “Information Collection Review” tab and click on “Information Collection Review” from the drop-down menu. From the “Currently under Review” drop-down menu, select “Department of Treasury” and then click “submit.” This information collection can be located by searching OMB control number “1557-0081” or “1557-0239” or “1557-0325.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

Board: You may submit comments, which should refer to “Call Report, FFIEC 101 and FFIEC 102 Revisions,” by any of the following methods:

• Agency Website: http://www.federalreserve.gov. Follow the instructions for submitting comments at: http://www.federalreserve.gov/generalinfo/foia/ProposedRegs.cfm.

• Email: regs.comments@federalreserve.gov. Include “Call Report, FFIEC 101, and FFIEC 102 Revisions,” in the subject line of the message.

• Fax: (202) 452-3819 or (202) 452-3102.

• Mail: Ann E. Misback, Secretary, Board of Governors of the Federal Reserve System, 20th Street and Constitution Avenue NW, Washington, DC 20551.

All public comments are available on the Board's website at https://www.federalreserve.gov/apps/foia/proposedregs.aspx as submitted, unless modified for technical reasons. Accordingly, your comments will not be edited to remove any identifying or contact information.

FDIC: You may submit comments, which should refer to “Call Report, FFIEC 101 and FFIEC 102 Revisions,” by any of the following methods:

• Agency Website: https://www.fdic.gov/regulations/laws/federal/. Follow the instructions for submitting comments on the FDIC's website.

• Federal eRulemaking Portal: https://www.regulations.gov. Follow the instructions for submitting comments.

• Email: comments@FDIC.gov. Include “Call Report, FFIEC 101 and FFIEC 102 Revisions,” in the subject line of the message.

• Mail: Manuel E. Cabeza, Counsel, Attn: Comments, Room MB-3128, Federal Deposit Insurance Corporation, 550 17th Street NW, Washington, DC 20429.

• Hand Delivery: Comments may be hand delivered to the guard station at the rear of the 550 17th Street Building (located on F Street) on business days between 7:00 a.m. and 5:00 p.m.

• Public Inspection: All comments received will be posted without change to https://www.fdic.gov/regulations/laws/federal/ including any personal information provided. Paper copies of public comments may be requested from the FDIC Public Information Center by telephone at (877) 275-3342 or (703) 562-2200.

Additionally, commenters may send a copy of their comments to the OMB desk officers for the agencies by mail to the Office of Information and Regulatory Affairs, U.S. Office of Management and Budget, New Executive Office Building, Room 10235, 725 17th Street NW, Washington, DC 20503; by fax to (202) 395-6974; or by email to oira_submission@omb.eop.gov.

FOR FURTHER INFORMATION CONTACT: For further information about the proposed revisions to the information collections discussed in this notice, please contact any of the agency staff whose names appear below. In addition, copies of the report forms and instructions for the Call Report, FFIEC 101 and FFIEC 102 can be obtained at the FFIEC's website (https://www.ffiec.gov/ffiec_report_forms.htm).

OCC: Kevin Korzeniewski, Counsel, Chief Counsel's Office, (202) 649-5490.

Board: Nuha Elmaghrabi, Federal Reserve Board Clearance Officer, (202) 452-3884, Office of the Chief Data Officer, Board of Governors of the Federal Reserve System, 20th and C Streets NW, Washington, DC 20551. Telecommunications Device for the Deaf (TDD) users may call (202) 263-4869.

FDIC: Manuel E. Cabeza, Counsel, (202) 898-3767, Legal Division, Federal Deposit Insurance Corporation, 550 17th Street NW, Washington, DC 20429.

SUPPLEMENTARY INFORMATION:

Table of Contents

I. Affected Reports

A. Call Report (FFIEC 031, FFIEC 041, and FFIEC 051)

B. FFIEC 101

C. FFIEC 102

II. Current Actions

Recently Proposed Amendments to the Regulatory Capital Rule for Large Banking Organizations and Banking Organizations With Significant Trading Activity

1. Background

2. Proposed Revisions to the Call Report

3. Proposed Revisions to the FFIEC 101

4. Proposed Revisions to the FFIEC 102

5. Proposed FFIEC 102a

III. Timing

IV. Request for Comment

I. Affected Reports

All of the proposed reporting changes discussed in this notice affect the Call Report, FFIEC 101 and FFIEC 102.

A. Call Reports (FFIEC 031, FFIEC 041, and FFIEC 051)

The agencies propose to extend for three years, with revision, their information collections associated with the FFIEC 031, FFIEC 041, and FFIEC 051 Call Reports.

Report Title: Consolidated Reports of Condition and Income (Call Report).

Form Number: FFIEC 031 (Consolidated Reports of Condition and Income for a Bank with Domestic and Foreign Offices), FFIEC 041 (Consolidated Reports of Condition and Income for a Bank with Domestic Offices Only), and FFIEC 051 (Consolidated Reports of Condition and Income for a Bank with Domestic Offices Only and Total Assets Less Than $5 Billion).

Frequency of Response: Quarterly.

Affected Public: Business or other for-profit.

Type of Review: Revision and extension of currently approved collections.

OCC

OMB Control No: 1557-0081.

Estimated Number of Respondents: 1,015 national banks and federal savings associations.

Estimated Average Burden per Response: 40.69 burden hours per quarter to file.

Estimated Total Annual Burden: 165,201 burden hours to file.

Board

OMB Control No.: 7100-0036.

Estimated Number of Respondents: 699 state member banks.

Estimated Average Burden per Response: 44.13 burden hours per quarter to file.

Estimated Total Annual Burden: 123,387 burden hours to file.

FDIC

OMB Control No.: 3064-0052.

Estimated Number of Respondents: 2,990 insured state nonmember banks and state savings associations.

Estimated Average Burden per Response: 38.86 burden hours per quarter to file.

Estimated Total Annual Burden: 464,766 burden hours to file.

The estimated average burden hours collectively reflect the estimates for the FFIEC 031, the FFIEC 041, and the FFIEC 051 reports for each agency. When the estimates are calculated by type of report across the agencies, the estimated average burden hours per quarter are 84.29 (FFIEC 031), 54.54 (FFIEC 041), and 34.39 (FFIEC 051). The changes to the Call Report forms and instructions proposed in this notice resulted in the following estimated changes in burden hours per quarter. For the FFIEC 031 report, the revisions resulted in an average decrease across all agencies of approximately 0.24 hours per quarter; for the FFIEC 041 report, the revisions resulted in an average decrease across all agencies of approximately 0.06 hours per quarter; and for the FFIEC 051 report, the revisions resulted in an average decrease across all agencies of approximately 0.01 hours per quarter. The estimated burden per response for the quarterly filings of the Call Report is an average that varies by agency because of differences in the composition of the institutions under each agency's supervision (e.g., size distribution of institutions, types of activities in which they are engaged, and existence of foreign offices).

Type of Review: Extension for three years and revision of currently approved collections. In addition to the proposed revisions discussed below, Call Reports are periodically updated to clarify instructional guidance and correct grammatical and typographical errors on the forms and instructions, which are published on the FFIEC website.¹ These non-substantive updates may also be commented upon.

¹ www.ffiec.gov/forms031.htm; www.ffiec.gov/forms041.htm;www.ffiec.gov/forms051.htm.

Legal Basis and Need for Collections

The Call Report information collections are mandatory: 12 U.S.C. 161 (national banks), 12 U.S.C. 324 (state member banks), 12 U.S.C. 1817 (insured state nonmember commercial and savings banks), and 12 U.S.C. 1464 (federal and state savings associations). At present, except for selected data items and text, these information collections are not given confidential treatment.

Banks and savings associations submit Call Report data to the agencies each quarter for the agencies' use in monitoring the condition, performance, and risk profile of individual institutions and the industry as a whole. Call Report data serve a regulatory or public policy purpose by assisting the agencies in fulfilling their shared missions of ensuring the safety and soundness of financial institutions and the financial system and protecting consumer financial rights, as well as agency-specific missions affecting federal and state-chartered institutions, such as conducting monetary policy, ensuring financial stability, and administering federal deposit insurance. Call Reports are the source of the most current statistical data available for identifying areas of focus for on-site and off-site examinations. Among other purposes, the agencies use Call Report data in evaluating institutions' corporate applications, including interstate merger and acquisition applications for which the agencies are required by law to determine whether the resulting institution would control more than 10 percent of the total amount of deposits of insured depository institutions in the United States. Call Report data also are used to calculate the risk-based assessments for insured depository institutions.

B. FFIEC 101

The agencies propose to extend for three years, with revision, the FFIEC 101 report.

Report Title: Regulatory Capital Reporting for Large Banking Organizations.

Form Number: FFIEC 101.

Frequency of Response: Quarterly.

Affected Public: Business or other for-profit.

Type of Review: Revision and extension of currently approved collections.

OCC

OMB Control No.: 1557-0239.

Estimated Number of Respondents: 49 national banks and federal savings associations.

Estimated Time per Response: 797.35 burden hours one-time for initial set-up and 437.45 burden hours per quarter to file ongoing.

Estimated Total Annual Burden: 38,972 burden hours for one-time initial set-up and 85,733 to file for ongoing.

Board

OMB Control No.: 7100-0319.

Estimated Number of Respondents: 52 state member banks, bank holding companies, savings and loan holding companies and intermediate holding companies.

Estimated Time per Response: 797.35 burden hours one-time for initial set-up and 437.45 burden hours per quarter to file ongoing.

Estimated Total Annual Burden: 41,358 burden hours for one-time initial set-up and 90,982 to file for ongoing.

FDIC

OMB Control No.: 3064-0159.

Estimated Number of Respondents: 9 insured state nonmember bank and state savings association.

Estimated Time per Response: 797.35 burden hours one-time for initial set-up and 437.45 burden hours per quarter to file ongoing.

Estimated Total Annual Burden: 7,158 burden hours for one-time initial set-up and 15,747 to file for ongoing.

Type of Review: Extension and revision of currently approved collections.

Legal Basis and Need for Collections

Currently, each banking organization subject to Category I or Category II standards is required to report quarterly regulatory capital data and, along with each top-tier banking organization subject to Category III standards,² supplementary leverage ratio information on the FFIEC 101. Under this proposal, each banking organization subject to Category I, II, III or IV standards would report revised regulatory capital and supplementary leverage information. The FFIEC 101 information collections are mandatory for applicable banking organizations under the following authorities: 12 U.S.C. 161 (national banks), 12 U.S.C. 324 (state member banks), 12 U.S.C. 1844(c) (bank holding companies), 12 U.S.C. 1467a(b) (savings and loan holding companies), 12 U.S.C. 1817 (insured state nonmember commercial and savings banks), 12 U.S.C. 1464 (federal and state savings associations), and 12 U.S.C. 1844(c), 3106, and 3108 (intermediate holding companies). Certain data items in this information collection are given confidential treatment under 5 U.S.C. 552(b)(4) and (8).

² 12 CFR 3.2 (OCC); 12 CFR 217.2 (Board); 12 CFR 324.2 (FDIC).

The agencies use data reported in the FFIEC 101 to assess and monitor the levels and components of each reporting entity's applicable capital requirements and the adequacy of the entity's capital under the capital rule,³ including the supplementary leverage ratio, as applicable; to evaluate the impact of the capital rule on individual reporting entities and on an industry-wide basis and its competitive implications; and to supplement on-site examination processes. The reporting schedules would also assist Category I, Category II, Category III, and Category IV banking organizations in understanding expectations relating to the system development necessary for implementation and validation of the capital rule. Submitted data that are released publicly would also provide other interested parties with additional information about Category I, Category II, Category III, and Category IV banking organizations' regulatory capital.

³ 12 CFR part 3, subpart E (OCC); 12 CFR part 217, subpart E (Board); 12 CFR part 324, subpart E (FDIC).

C. FFIEC 102

The agencies propose to extend for three years, with revision, the FFIEC 102 report. The proposed revisions include the addition of a new confidential report (FFIEC 102a).

Report Title: Market Risk Regulatory Report.

Form Number: FFIEC 102.

Frequency of Response: Quarterly.

Affected Public: Business or other for-profit.

OCC

OMB Number: 1557-0325.

Estimated Number of Respondents: 53 national banks and federal savings associations, 53 (FFIEC 102), 53 (FFIEC 102a).

Estimated Average Time per Response: 83.55 hours one-time for initial set-up and 41.77 hours for ongoing (FFIEC 102); 142.49 hours one-time for initial set-up and 50.83 hours for ongoing (FFIEC 102a).

Estimated Total Annual Burden: 4,428 hours one-time for initial set-up and 8,856 for ongoing (FFIEC 102); 7,552 one-time for initial set-up and 10,777 hours for ongoing (FFIEC 102a).

Board

OMB Number: 7100-0365.

Estimated Number of Respondents: 30 state member banks, bank holding companies, savings and loan holding companies, and intermediate holding companies (FFIEC 102), 30 (FFIEC 102a).

Estimated Average Time per Response: 83.55 hours one-time for initial set-up and 41.77 hours for ongoing (FFIEC 102); 142.49 hours one-time for initial set-up and 50.83 hours for ongoing (FFIEC 102a).

Estimated Total Annual Burden: 2,506 hours one-time for initial set-up and 5,013 hours for ongoing (FFIEC 102); 4,275 hours one-time for initial set-up and 6,100 hours for ongoing (FFIEC 102a).

FDIC

OMB Number: 3064-0199.

Estimated Number of Respondents: 9 insured state nonmember bank and state savings association (FFIEC 102); 9 (FFIEC 102a).

Estimated Average Time per Response: 83.55 hours one-time for initial set-up and 41.77 hours for ongoing (FFIEC 102); 142.49 hours one-time for initial set-up and 50.83 hours for ongoing (FFIEC 102a).

Estimated Total Annual Burden: 752 hours one-time for initial set-up and 1,504 hours for ongoing (FFIEC 102); 1,282 hours one-time for initial set-up and 1,830 hours for ongoing (FFIEC 102a).

Type of Review: Revision and extension of currently approved collections.

Legal Basis and Need for Collection

Currently, a banking organization with aggregate trading assets and trading liabilities that, as of the most recent calendar quarter, equal to $1 billion or more, or 10 percent or more of the banking organization's total consolidated assets (market risk institutions), is required to calculate market risk capital requirements under subpart F of the agencies' capital rule ⁴ and submit the FFIEC 102 report. Under this proposal, and consistent with the agencies' proposed changes to the definition of market risk institutions, any holding company subject to Category I, Category II, Category III, or Category IV standards or any subsidiary thereof, if the subsidiary engaged in any trading activity over any of the four most recent quarters, would submit the FFIEC 102. Additionally, a banking organization with average aggregate trading assets and trading liabilities (excluding customer and proprietary broker-dealer reserve bank accounts) over the previous four calendar quarters equal to $5 billion or more, or equal to 10 percent or more of total consolidated assets would also submit the report. The quarterly FFIEC 102 information collection is mandatory for market risk institutions under the following authorities: 12 U.S.C. 161 (national banks), 12 U.S.C. 324 (state member banks), 12 U.S.C. 1844(c) (bank holding companies), 12 U.S.C. 1467a (b) (savings and loan holding companies), 12 U.S.C. 5365 (U.S. intermediate holding companies), 12 U.S.C. 1817 (insured state nonmember commercial and savings banks), and 12 U.S.C. 1464 (savings associations).

⁴ 12 CFR 3.201 (OCC); 12 CFR 217.201 (Board); and 12 CFR 324.201 (FDIC). Currently, the market risk framework of the capital rule generally applies to any banking institution with aggregate trading assets and trading liabilities equal to (a) 10 percent or more of quarter-end total assets or (b) $1 billion or more.

The FFIEC 102 is filed quarterly with the agencies and provides information for market risk institutions. Each market risk institution is required to file the FFIEC 102 for the agencies' use in assessing the accuracy of the institution's calculation of its minimum capital requirements under the capital rule and in evaluating the institution's capital in relation to its risks. Additionally, the market risk information collected in the FFIEC 102: (a) permits the agencies to monitor the market risk profile of, and evaluate the impact and competitive implications of, the capital rule on individual market risk institutions and the industry as a whole; (b) provides the most current statistical data available to identify areas of market risk on which to focus for on-site and off-site examinations; (c) allows the agencies to assess and monitor the levels and components of each reporting institution's risk-based capital requirements for market risk and the adequacy of the institution's capital under the capital rule; and (d) assists market risk institutions in validating their implementation of the market risk framework.

As described in Section II of this SUPPLEMENTARY INFORMATION, the agencies are proposing to expand the data collection by creating the FFIEC 102a, Supervisory Market Risk Regulatory Report. This new form would collect information necessary for the agencies to evaluate a market risk institution's implementation of the market risk rule and validate a banking organization's internal models used in preparing the FFIEC 102.

Confidentiality

The current FFIEC 102 information collections are not given confidential treatment. The agencies are not proposing to provide confidential treatment under the revised collection, other than with respect to data collected under the proposed new Supervisory Market Risk Regulatory Report (FFIEC 102a). The data proposed to be collected on the Supervisory Market Risk Regulatory Report would include financial information used for the agencies' supervisory purposes that is not normally disclosed by the respondent organizations. This information could reveal trade secrets or cause significant competitive harm to the respondent organizations if disclosed. Therefore, the data collected on the Supervisory Market Risk Regulatory Report would be kept confidential by the agencies under 5 U.S.C. 552(b)(4) and (8).

II. Current Actions

Recently Proposed Amendments to the Regulatory Capital Rule for Large Banking Organizations and Banking Organizations With Significant Trading Activity

1. Background

On September 18, 2023, the agencies published in the Federal Register a proposed rule ⁵ to revise the risk-based capital requirements for large banking organizations. The proposed changes to regulatory capital requirements apply to banking organizations subject to Category I, Category II, Category III, or Category IV standards and to banking organizations with significant trading activities, all as defined in the proposed rule. The modifications to the capital rule would result in reporting changes that affect the Call Report, FFIEC 101, and FFIEC 102.

⁵ 88 FR 64028 (September 18, 2023).

2. Proposed Revisions to the Call Report

The agencies are proposing to revise the Call Report forms and instructions to align with the proposed capital rule. The general instructions for each version of the Call Report (FFIEC 031, FFIEC 041, and FFIEC 051) would be revised to require each bank subject to the expanded risk-based approach under the proposed capital rule to file the FFIEC 031. The agencies also propose to revise the FFIEC 031 Schedule RC-R, Part I, Regulatory Capital Components and Ratios, to align the calculation of regulatory capital for institutions subject to Category III and IV standards with the calculation used for institutions subject to Category I and II standards, subject to certain transition provisions for components of Accumulated Other Comprehensive Income (AOCI) in the proposed capital rule. To identify Category III and IV institutions subject to the transition requirements, the agencies propose to add a new response option (“2” for “Phase-out”) for item 3.a “AOCI opt-out election” on the FFIEC 031, Schedule RC-R, Part I, to be used by these institutions. The general instructions and certain item instructions to the FFIEC 031, Schedule RC-R, Part II, Risk-Weighted Assets, also would be revised to reflect AOCI transition requirements in the proposed capital rule, as applicable.

Due to the expiration of certain transition periods in the agencies' existing regulatory capital rule, the agencies are proposing to remove from Schedule RC-R, Part I, item 21, “Non-qualifying capital instruments subject to phase-out from additional tier 1 capital” and item 40, “Non-qualifying capital instruments subject to phase-out from tier 2 capital” from all versions of the Call Report. Because the calculation of tier 2 capital under the expanded risked-based approach would differ from the calculation of tier 2 capital under the existing advanced approaches rule, the agencies propose to replace FFIEC 031 Schedule RC-R, Part I, item 42.b, “(Advanced approaches institutions that exit parallel run only): Eligible credit reserves includable in tier 2 capital” with “Adjusted allowances for credit losses (AACL) includable in tier 2 capital (for institutions subject to the expanded risk-based approach)” and revise certain subtotals on FFIEC 031, Schedule RC-R, Part I, that use this item.

Finally, the agencies are proposing changes to certain definitions and terminology in the forms and instructions consistent with the proposed capital rule, including revising terminology for advanced approaches capital under the existing rule to reflect the proposed expanded risk-based approach and the scope of banking organizations using the standardized approach for counterparty credit risk (SA-CCR). Further details of the revisions described above can be found in the proposed revised FFIEC 031, FFIEC 041, and FFIEC 051 forms and instructions, which have been posted to the FFIEC website.⁶

⁶ https://www.ffiec.gov/ffiec_report_forms.htm.

3. Proposed Revisions to FFIEC 101

The agencies are proposing to revise the FFIEC 101 forms and instructions to align with the proposed capital rule. Specifically, to incorporate the reporting revisions applicable to the proposed capital rule, the agencies are proposing to revise the FFIEC 101 general instructions to scope in Category III ⁷ and IV banking organizations in the reporting criteria, rename and modify Schedule A to update nomenclature in connection with the proposed capital rule revisions, remove Schedule B through Schedule S of the current FFIEC 101 report, and add new schedules as described below. To maintain consistency with the proposed capital rule, the agencies are also proposing to revise the title of the FFIEC 101 report from “Regulatory Capital Reporting for Institutions Subject to the Advanced Capital Adequacy Framework” to “Regulatory Capital Reporting for Large Banking Organizations.” The reporting modifications would enhance comparability of the FFIEC 101 to relevant parts of the Basel Framework disclosure standard, which would increase comparability of internationally active banks. The proposed FFIEC 101 revisions aim to promote market discipline through regulatory disclosure requirements.

⁷ Top-tier Category III banking organizations are currently only required to file the SLR Tables 1 and 2.

The agencies are requesting comment on whether there should be any further changes to the report form items or instructions developed by the agencies consistent with the proposed capital rule.

Under the proposal, reporting institutions would continue to report Schedule A, which would be renamed to Schedule RCCR, Regulatory Capital Components and Ratios, and revised to align with the requirements of the proposed capital rule. First, the agencies are proposing to revise this schedule to remove the concept of eligible credit reserves and parallel run from the report form and instructions, and rename existing item 12, “Expected credit loss that exceeds eligible credit reserves” to “AOCI transition adjustment amount (for Category III and IV institutions only)” as the item would no longer be applicable. Category III and IV institutions would report AOCI transition amounts in item 12 during the transitional period. In addition, the agencies are proposing to replace item 50, “Eligible credit reserve includable in tier 2 capital,” with “Adjusted allowances for credit losses (AACL) includable in tier 2 capital” under the expanded risk-based approach and clarify the instructions for item 27. These changes would also result in the deletions of items 77 through 90, which would no longer be needed.

As a result of the new expanded risk based-approach framework for calculating risk-weighted assets under the proposed capital rule, the agencies are proposing to update item 60, “Total risk-weighted assets (RWA),” to “Expanded total risk-weighted assets (accounting for transition provisions),” and reflect for Category I, II, III and IV banking organizations a three-year transitional period to phase-in expanded total risk-weighted assets. To implement changes under the proposed capital rule that would require Category III and IV banking organizations to use the standardized approach for counterparty credit risk (SA-CCR) for derivatives exposures for purposes of the supplementary leverage ratio (SLR), the agencies are proposing to remove references to the current exposure methodology from instructions related to reporting the SLR. Consistent with the proposed capital rule, the agencies are also proposing to update the instructions to require all banking organizations that report the FFIEC 101 to report the SLR tables. To reflect the addition of a new 40 percent credit conversion factor (CCF) for unconditionally cancelable commitments under the proposed capital rule, the agencies propose to revise the SLR Table 2 instructions to align with the change. In addition, certain items related to the reporting of regulatory capital buffer requirements would be amended to reflect the proposed capital rule. Items 4, 33, 35, 47, and 49 in current Schedule A related to transition periods in the regulatory capital rule that have expired and are no longer applicable are proposed to be eliminated. Additionally, the agencies added granularity to the items relating to derivative transactions in SLR Table 2. This granularity provides a breakout of derivative transactions that involve commercial end-users and counterparties other than commercial end-users.

Current Schedules B through S would be removed, and institutions would be required to report risk-weighted asset and exposure information in new schedules described below. The new FFIEC 101 schedules would be as follows.

1. Schedule OV1: Overview of Expanded Total Risk-Weighted Assets. The purpose of this schedule is to provide an overview of expanded total risk-weighted assets (RWA) forming the denominator of the risk-based capital requirements. On this schedule, reporting institutions would report summary amounts of risk-weighted assets reported in detail on other FFIEC 101 schedules.

2. Schedule CR1: General Credit Risk Exposures and Credit Risk Mitigation (CRM) Effects. The purpose of this schedule is to illustrate the effect of CRM on capital requirement calculations under the proposed expanded risk-based approach for credit risk in the agencies' capital rule. On this schedule, institutions would report on-balance sheet and off-balance sheet credit risk exposures, the adjusted amounts of those credit risk exposures reflecting credit risk mitigants, and the corresponding risk-weighted assets and risk-weighted asset density.

3. Schedule CR2: Credit Risk Mitigation Techniques. The purpose of this schedule is to present the quantity of exposures under the expanded risk-based approach where CRM is applicable, and the amount of CRM attributed to each general type of credit risk mitigant. On this schedule, reporting institutions would report amounts of exposures that are unsecured, the amounts that are secured, and the quantity of those secured exposures that are secured by collateral, by eligible guarantees, and by eligible credit derivatives.

4. Schedule CR3: Credit Risk Exposures by Exposure Categories and Risk Weights. The purpose of this schedule is to present the breakdown of credit risk exposures by category and then by the applicable risk weight under the expanded risk-based approach. On this schedule, institutions would report the amounts of exposures by asset class, differentiated by the applicable risk weights for each asset class. For off-balance sheet exposures, the applicable credit conversion factor (CCF) would be applied first before the applicable risk weight. Total credit risk-weighted assets under the expanded risk-based approach would reflect the aggregate total exposures for each asset class after risk weights and, if applicable, credit conversion factors are applied to the exposure amounts.

5. Schedule CCR: Counterparty Credit Risk Exposures and Risk Weights. The purpose of this schedule is to provide a breakdown of counterparty credit risk exposures calculated according to the standardized approach by type of counterparties and by risk weight.

6. Schedule SEC1: Securitization Exposures Subject to Subpart E of the Capital Rule. The purpose of this schedule is to present a reporting institution's securitization exposures subject to the credit risk-based capital framework. On this schedule, institutions would report the details of traditional and synthetic retail and wholesale securitization exposures subject to the credit risk-based capital framework.

7. Schedule SEC2: Securitization Exposures Subject to Subpart F of the Capital Rule. The purpose of this schedule is to present a reporting institution's securitization exposures subject to the market risk capital framework. On this schedule, institutions would report the details of traditional and synthetic retail and wholesale securitization exposures subject to the market risk capital framework.

8. Schedule SEC3: Securitization Exposures and Capital Requirements under Subpart E—Reporting Institution Acting as Originator/Sponsor. The purpose of this schedule is to present securitization exposures where the reporting institution acts as originator or sponsor subject to the credit risk-based capital framework and the associated capital requirements. On this schedule, institutions would report details of traditional and synthetic securitization exposure values and risk-weighted assets by risk weights and regulatory approach when the reporting institution acts as an originator or sponsor.

9. Schedule SEC4: Securitization Exposures and Capital Requirements under Subpart E—Reporting Institution Acting as Investor. The purpose of this schedule is to present securitization exposures where the reporting institution acts as investor subject to the credit risk-based capital framework and the associated capital requirements. On this schedule, reporting institutions would report details of traditional and synthetic securitization exposure values and risk-weighted assets by risk weights and regulatory approach when the reporting institution acts as an investor.

10. Schedule CVA: Basic and Standardized Measures for Credit Valuation Adjustment (CVA) Risk. The purpose of this schedule is to provide the components used for the computation of risk-weighted assets under the basic approach and the standardized approach for CVA risk. On this schedule, institutions would report CVA risk-related elements, risk-weighted assets, and associated capital requirement amounts.

11. Schedule EQ: Risk-Weighted Assets for Equity Exposures. This schedule would collect information regarding equity exposures under the expanded simple risk-weight approach (ESRWA) and under the look-through approaches by exposures type and risk weight.

12. Schedule OR1: Historical Operational Losses. The purpose of this schedule is to disclose total annual operational losses incurred over the past ten years, based on the accounting date of the incurred losses, to inform the operational risk capital calculation. On this schedule, reporting institutions would report items related to total amounts of operational losses and total numbers of operational loss events over the past ten years.

13. Schedule OR2: Business Indicator and Subcomponents. The purpose of this schedule is to disclose the business indicator (BI) and its subcomponents, which inform the operational risk capital calculation. On this schedule, institutions would report BI related items such as the interest, lease, and dividend component, the services component, and the financial component.

14. Schedule OR3: Minimum Required Operational Risk Capital. The purpose of this schedule is to report operational risk regulatory capital requirements. On this schedule, institutions would report operational risk minimum regulatory capital requirement calculation items such as the business indicator component, the internal loss multiplier, and operational risk risk-weighted assets.

15. Optional Narrative: The purpose of this schedule is for institutions to provide a brief narrative statement to supplement data reported in the Regulatory Capital Reporting for Large Banking Organizations.

Further details of the revisions described above can be found in the proposed revised FFIEC 101 form and instructions, which have been posted to the FFIEC website.⁸

⁸ www.ffiec.gov/forms101.htm.

4. Proposed Revisions to the FFIEC 102

The agencies propose to amend the FFIEC 102 forms and instructions so that relevant reporting requirements are aligned with the capital proposal.⁹ Consistent with the scope changes for applicability of the market risk capital requirements in the proposed capital rule, the agencies are proposing to revise the reporting criteria for FFIEC 102 to apply to banking organizations subject to Category I, Category II, Category III, or Category IV standards and to banking organizations with significant trading activity. As defined in the proposed capital rule, a banking organization with significant trading activity would be any banking organization with average aggregate trading assets and trading liabilities, excluding customer and proprietary broker-dealer reserve bank accounts, equal to $5 billion or more, or equal to 10 percent or more of total consolidated assets at quarter end as reported on the most recent quarterly regulatory report. The agencies intend to conform the scope of proposed reporting under the capital rule only to those institutions that are within the scope of the proposed capital rule.

⁹ All of the terms and concepts listed in this section are described in detail in the proposed capital rule. Commenters should refer to the proposed capital rule when commenting on the associated proposed reporting revisions.

To maintain consistency with the proposed capital rule and simplify the report title, the agencies are also proposing to revise the title of the FFIEC 102 report from “Market Risk Regulatory Report for Institutions Subject to the Market Risk Capital Rule” to “Market Risk Capital Report.”

Additionally, to implement the new market risk capital requirements framework in the proposed capital rule, the agencies propose to remove the current data collected on FFIEC 102, and to add new data collection for an institution's standardized measure for market risk and the models-based measure for market risk, if applicable. Under the proposal, the revised FFIEC 102 would be subdivided into four sections: Part I, Standardized capital requirements for market risk; Part II, Models-based capital requirements for market risk; Part III, Market risk-weighted assets; and Part IV, Memoranda, as described below.

Part I, Standardized capital requirements for market risk, would include data items for calculating the standardized measure for market risk, which would be the default methodology for calculating market risk capital requirements for all banking organizations subject to market risk capital requirements. It would collect data for the sensitivities-based method capital requirement, the standardized default risk capital requirement, and the residual risk add-on components. Furthermore, items related to the three additional components for standardized measure for market risk that would apply in limited instances to specific positions would be collected for: (1) a capital add-on for re-designations; (2) other capital add-ons established by the primary Federal supervisor, and (3) a fallback capital requirement.

Part II, Models-based capital requirement for market risk, would contain the core components data elements for the models-based measure for market risk, which consists of (1) the internal models approach capital requirements for model-eligible trading desks; (2) the additional capital requirement applied to model-eligible trading desks with shortcomings in the internal models used for determining risk-based capital requirements in the form of a profit and loss attribution (PLA) add-on, if applicable; and (3) the standardized approach capital requirements for model-ineligible trading desks. The internal models approach capital requirements for model-eligible trading desks would itself consist of four components: (1) the capital measure for non-modellable risk factors, (2) capital measure for non-modellable risk factors (stressed expected shortfall), (3) the standardized default risk capital requirement, and (4) capital multiplier. Specifically, an institution would report in this section its unconstrained and constrained expected shortfall for relevant risk classes, capital requirements for modellable and non-modellable risk factors, standardized default risk capital requirement, PLA add-on, capital multiplier, capital requirement for model-eligible trading desks, and capital add-ons among other relevant data for calculating the models-based measure for market risk.

Part III, Market risk-weighted assets, would collect data items for the standardized market risk-weighted assets and the models-based market risk-weighted assets.

Lastly, Part IV, Memoranda, would be added to the FFIEC 102 for all market risk institutions to report total sensitivities-based method capital requirement under high, medium, and low correlation scenarios and total notional amount of market risk covered positions. The proposed sub-items of these notional amounts include the following: foreign exchange positions, commodity positions, net short credit positions, net short equity positions, customer and proprietary broker-dealer reserve bank accounts, and other market risk covered positions.

The proposed reporting requirements described above would provide meaningful disclosure without requiring disclosure of proprietary information. The reports would enable the federal supervisors to monitor a banking organization's risk profile related to market risk and identify changes in the risk profile that would pose risks to the financial system. These revised disclosure requirements are designed to increase transparency and complement the supervisory review process by encouraging market discipline through enhanced and meaningful public disclosure. The agencies intend for these proposed disclosure requirements to strike an appropriate balance between the supervisory and market benefits of reporting and the additional burden to a banking organization that would be required to provide disclosures.

5. Proposed FFIEC 102a

In addition to the revisions described above, the agencies propose to add a separate Supervisory Market Risk Regulatory Report (FFIEC 102a) that would function as a companion to the FFIEC 102 report in implementing the proposed capital rule's revised market risk framework. The proposed Supervisory Market Risk Regulatory Report would be collected on a quarterly basis, would be confidential, and would apply only to banking organizations that calculate market risk capital requirements under the models-based measure for market risk. Under the proposal, the FFIEC 102a would be subdivided into three sections. The first section, Part 1, General Information, would collect general information for a banking organization's trading desk(s) such as the number of regulator approved trading desks and number of regulator approved notional trading desks. It would also include data on the organizational structure of the trading desk such as trading desks identifier, trading desk name, organization unit identifier, and the asset class for each trading desk provided by the asset class that gives rise to the trading desk's greatest aggregate market risk exposure as of the submission date.

The second section, Part 2, Aggregate Trading Portfolio Backtesting, would collect aggregate level data for model eligible trading desk that includes the market value of total trading assets, market value of total trading liabilities, and data related to the number of value at risk (VaR) backtesting exceptions during the quarter. This part would also include data on the daily VaR-based measures calibrated to the 99.0th percentile; the daily expected shortfall (ES) based measure calibrated at the 97.5th percentile; liquidity horizon-adjusted ES-based measures; the actual profit and loss; the hypothetical profit and loss; and the p-value of the profit or loss for each day. The third section, Part 3, Backtesting and PLA Testing for Model-Eligible Trading Desks, would be reported at the trading desk level. The data in this section would include general information related to the trading desk such as the name, unique identifier for the trading desk, description of the trading desk, authorized products for the trading desk, main product types, and several questions about the trading desk. In addition, it would include data on the daily VaR-based measure for the trading desk calibrated at both the 99.0th and 97.5th percentile; the capital measure for non-modellable risk factors; the daily ES-based measure calibrated at the 97.5th percentile; the actual profit and loss; the hypothetical profit and loss; the risk-theoretical profit and loss; and the p-values of the profit or loss for each day.

The proposed reporting requirements would enable the agencies to identify changes to the risk profiles of banking organizations that use the models-based approach for market risk. Specifically, the collection of backtesting and PLA data included in the proposed reports would enable the agencies to determine the validity of a banking organization's internal models, and whether these models accurately account for the risk associated with exposure to price movements, changes in market structure, or market events that affect specific assets. If the agencies find these models not able to sufficiently capture market risks in these positions, under the proposed capital rule, the banking organization must then use the standardized approach for calculating its market risk capital requirements, thereby preventing divergence between a banking organization's risk profile and its capital position. The FFIEC 102a report would be filed 20 days after the end of each quarter. The proposed submission date is intended to provide the agencies with sufficient time to review the data and make a determination pursuant to the proposed capital rule as to whether a trading desk is eligible to use the internal models approach prior to the due date of the banking organization's other quarterly reports, including the FFIEC 102 and Call Report or FR Y-9C.¹⁰ In the event that this review results in a change to a trading desk's eligibility, the banking organization would be able to make any necessary adjustments before the submission of its FFIEC 102 and Call Report or FR Y-9C, rather than having to revise and resubmit these reports. Furthermore, because the proposal requires a banking organization to calculate the data provided in the proposed report on a daily basis, the 20-day timeframe for submission is not expected to impose significantly increased compliance burden.

¹⁰ The Call Report (for banks) is due 30 or 35 days after quarter end, while the FR Y-9C (for holding companies) generally is due 40 days after quarter end. The FFIEC 102 is due at the same time as the Call Report or FR Y-9C.

Further details of all the revisions described above can be found in the proposed Supervisory Market Risk Regulatory Report form and instructions, available on the FFIEC's website.¹¹

¹¹ www.ffiec.gov/forms102.htm.

III. Timing

The agencies propose to make the reporting changes to the Call Report, FFIEC 101, and FFIEC 102 (including its new sub-report the FFIEC 102a) effective for the third quarter of 2025 (September 30, 2025), consistent with the proposed July 1, 2025, effective date for the proposed capital rule. The agencies invite comment on any difficulties that institutions would expect to encounter in implementing the systems changes necessary to accommodate the proposed revisions to the Call Report, FFIEC 101, or FFIEC 102/102a, or the minimum time required to make systems changes to implement these changes. The specific wording of the captions for the new or revised data items discussed in this proposal and the numbering of these data items should be regarded as preliminary. If modifications are made to the proposed capital rule in an associated final rule, the agencies would modify the information collection revisions in this proposal to incorporate such changes, as applicable.

IV. Request for Comment

Public comment is requested on all aspects of this joint notice. Comment is specifically invited on:

(a) Whether the proposed revisions to the collections of information that are the subject of this notice are necessary for the proper performance of the agencies' functions, including whether the information has practical utility;

(b) The accuracy of the agencies' estimates of the burden of the information collections as they are proposed to be revised, including the validity of the methodology and assumptions used;

(c) Ways to enhance the quality, utility, and clarity of the information to be collected;

(d) Ways to minimize the burden of information collections on respondents, including through the use of automated collection techniques or other forms of information technology; and

(e) Estimates of capital or start-up costs and costs of operation, maintenance, and purchase of services to provide information.

Comments submitted in response to this joint notice will be shared among the agencies. At the end of the comment period for this notice, the FFIEC and the agencies will review any comments received to determine whether to modify the proposal in response to such comments.

Theodore J. Dowd,
Deputy Chief Counsel, Office of the Comptroller of the Currency.
Board of Governors of the Federal Reserve System.
Michele Taylor Fennell,
Deputy Associate Secretary of the Board.
Federal Deposit Insurance Corporation.
Dated at Washington, DC, on January 18, 2024.
James P. Sheesley,
Assistant Executive Secretary.

[FR Doc. 2024-01532 Filed 1-25-24; 8:45 am]

BILLING CODE 4810-33-P; 6210-01-P; 6714-01-P